DEPARTMENT OF JUSTICE

Antitrust Division

Notice Pursuant to the National Cooperative Research and Production Act of 1993—Members of SGIP 2.0, Inc.

Notice is hereby given that, on July 20, 2017, pursuant to Section 6(a) of the National Cooperative Research and Production Act of 1993, 15 U.S.C. 4301 et seq. (“the Act”), Members of SGIP 2.0, Inc. (“MSGIP 2.0”) has filed written notifications simultaneously with the Attorney General and the Federal Trade Commission disclosing changes in its membership. The notifications were filed for the purpose of extending the Act's provisions limiting the recovery of antitrust plaintiffs to actual damages under specified circumstances. Specifically, Spark Cognition, Austin, TX; and Steve Ray Consulting, Menlo Park, CA, have been added as parties to this venture.

Also, Ameren Services, St. Louis, MO; Artis Energy (Formerly NXEGEN LLC), Middletown, CT; Carnegie Mellon University, Pittsburgh, PA; Consumer Electronics Association, Arlington, VA; Elevate Energy, Chicago, IL; India Smart Grid Forum, New Delhi, INDIA; Korea Smart Grid Institute, Seoul, REPUBLIC OF KOREA; Lawrence Berkeley National Laboratory (LBNL), Berkeley, CA; NEXTera Energy, Juno Beach, FL; Oracle Utilities (Formerly Opower), Arlington, VA; PJM Interconnection, Norristown, PA; Public Utilities Commission of Ohio, Columbus, OH; Rebecca Herold and Associates, Van Meter, IA; Reilly Associates, Red Bank, NJ; Smart Grid Operations Consulting, Sunnyvale, CA; Softgrids, Puteaux, FRANCE; Sustainable Resources Management, Toronto, CANADA; Telecommunications Technology Association, Gyeonggi-do, REPUBLIC OF KOREA; Tri-County Electric Cooperative, Inc., Hooker, OK; and Wedin Communications, Plymouth, MN, have withdrawn as parties to this venture.

No other changes have been made in either the membership or planned activity of the group research project. Membership in this group research project remains open, and MSGIP 2.0 intends to file additional written notifications disclosing all changes in membership.

On February 5, 2013, MSGIP 2.0 filed its original notification pursuant to Section 6(a) of the Act. The Department of Justice published a notice in the Federal Register pursuant to Section 6(b) of the Act on March 7, 2013 (78 FR 14836).

The last notification was filed with the Department on February 24, 2017. A notice was published in the Federal Register pursuant to Section 6(b) of the Act on March 27, 2017 (82 FR 15238).

Patricia A. Brink,
Director of Civil Enforcement, Antitrust Division.

[FR Doc. 2017-18993 Filed 9-6-17; 8:45 am]

BILLING CODE P